DEPARTMENT OF AGRICULTURE

Rural Housing Service

[Docket No.: RHS-24-MFH-0008]

Section 514 Off-Farm Labor Housing Subsequent Loans and Section 516 Off-Farm Labor Housing Subsequent Grants To Improve, Repair, or Make Modifications to Existing Off-Farm Labor Housing Properties for Fiscal Year 2024

Correction

In notice document, 2024-05505, appearing on pages 19400 through 19468 in the issue of Monday, March 18, 2024, make the following correction:

On page 19400, in the third column, in line twelve, change the phone number from “254-757-5647” to “202-205-9217”.

[FR Doc. C1-2024-05505 Filed 4-2-24; 8:45 am]

BILLING CODE 0099-10-P